NUCLEAR REGULATORY COMMISSION

Sunshine Act, Meeting

Date: Weeks of April 26, May 3, 10, 17, 24, 31, 2004.

Place: Commissioners' Conference Room, 11555 Rockville Pike, Rockville, Maryland.

Status: Public and Closed.

Matters To Be Considered:

Week of April 26, 2004

There are no meetings scheduled for the Week of April 26, 2004.

Week of May 3, 2004—Tentative

Tuesday, May 4, 2004

9:30 a.m. Briefing on Results of the Agency Action Review Meeting (Public Meeting) (Contact: Bob Pascarelli, 301-415-1245)

This meeting will be webcast live at the Web address— http://www.nrc.gov.

Week of May 10, 2004—Tentative

Monday, May 10, 2004

1 p.m. Briefing on Grid Stability and Offsite Power Issues (Public Meeting) (Contact: Cornelius Holden, 301-415-3036)

This meeting will be webcast live at the Web address— http://www.nrc.gov.

Tuesday, May 11, 2004

9:30 a.m. Briefing on Status of Office of International Programs (OIP) Programs, Performance, and Plans (Public Meeting) (Contact: Ed Baker, 301-415-2344)

This meeting will be webcast live at the Web address— http://www.nrc.gov.

1:30 p.m. Briefing on Threat Environment Assessment (Closed—Ex. 1)

Week of May 17, 2004—Tentative

There are no meetings scheduled for the Week of May 17, 2004.

Week of May 24, 2004—Tentative

Tuesday, May 25, 2004

1:30 p.m. Discussion of Management Issues (Closed—Ex. 2).

Wednesday, May 26, 2004

10:30 a.m. All Employees Meeting (Public Meeting).

1:30 p.m. All Employees Meeting (Public Meeting).

Week of May 31, 2004—Tentative

Wednesday, June 2, 2004

9:30 a.m. Briefing on Equal Employment Opportunity Program (Public Meeting) (Contact: Corenthis Kelley, 301-415-7380)

This meeting will be webcast live at the Web address— http://www.nrc.gov.

1:30 p.m. Meeting with Advisory Committee on Reactor Safeguards (ACRS) (Public Meeting) (Contact: John Larkins, 301-415-7360)

This meeting will be webcast live at the Web address— http://www.nrc.gov.

The schedule for Commission meetings is subject to change on short notice. To verify the status of meetings call (recording)—(301) 415-1292. Contact person for more information: Dave Gamberoni, (301) 415-1651.

* * * * *

Additional Information

By a vote of 3-0 on April 20, the Commission determined pursuant to U.S.C. 552b(e) and § 9.107(a) of the Commission's rules that “Affirmation of Duke Energy Corp. (Catawba Nuclear Station, Units 1 and 2), Duke's Appeal of LBP-04-04 (Board Ruling on Standing and Contentions) and the Board's Certified Questions on a Security Contention” be held April 21, and on less than one week's notice to the public.

“Meeting with Advisory Committee on Reactor Safeguards (ACRS)” originally scheduled for Thursday, May 6, 2004 was rescheduled for June 2, 2004.

* * * * *

The NRC Commission Meeting Schedule can be found on the Internet at: http:://www.nrc.gov/what-we-do/policy-making/schedule.html.

* * * * *

This notice is distributed by mail to several hundred subscribers; if you no longer wish to receive it, or would like to be added to the distribution, please contact the Office of the Secretary, Washington, DC 20555 ((301) 415-1969). In addition, distribution of this meeting notice over the Internet system is available. If you are interested in receiving this Commission meeting schedule electronically, please send an electronic message to dkw@nrc.gov.

Dated: April 22, 2004.
Dave Gamberoni,
Office of the Secretary.

[FR Doc. 04-9596 Filed 4-23-04; 11:20 am]

BILLING CODE 7590-01-M